EXPORT-IMPORT BANK OF THE UNITED STATES

Notice of Open Special Meeting of the Sub-Saharan Africa Advisory Committee (SAAC) of the Export-Import Bank of the United States (Export-Import Bank)

SUMMARY: The Sub-Saharan Africa Advisory Committee was established by Public Law 105-121, November 26, 1997, to advise the Board of Directors on the development and implementation of policies and programs designed to support the expansion of the Bank's financial commitments in Sub-Saharan Africa under the loan, guarantee and insurance programs of the Bank. Further, the committee shall make recommendations on how the Bank can facilitate greater support by U.S. commercial banks for trade with Sub-Saharan Africa.

Time and Place: October 10, at 2 to 5 p.m. The meeting will be held at the Export-Import Bank in Room 1143, 811 Vermont Avenue, NW., Washington, DC 20571.

Agenda: Following a panel presentation on China's development strategy and its impact on U.S. commercial interests generally and in Africa specifically, the meeting agenda shall include a status report on the 2006 SAAC recommendations to Congress; discussion on the 2007 SAAC recommendations to Congress; an update on the Competitiveness Working Group; the upcoming Africa focused international business development initiatives; and special recognition of the service by SAAC members to the Board.

Public Participation: The meeting will be open to public participation, and the last 10 minutes will be set aside for oral questions or comments. Members of the public may also file written statement(s) before or after the meeting. If any person wishes auxiliary aids (such as a sign language interpreter) or other special accommodations, please contact, prior to October 10, 2007, Barbara Ransom, Room 1241, 811 Vermont Avenue, NW., Washington, DC 20571, Voice: (202) 565-3525 or TDD (202) 565-3377.

Further Information: For further information, contact Barbara Ransom, Room 707, 811 Vermont Avenue, NW., Washington, DC 20571, (202) 565-3525.

Kamil Cook,
Deputy General Counsel.

[FR Doc. 07-4700 Filed 9-21-07; 8:45 am]

BILLING CODE 6690-01-M